FEDERAL MARITIME COMMISSION

Agency Information Collection Activities: Submission for OMB Review; Comment Request

AGENCY: Federal Maritime Commission.

ACTION: Final notice of submission for OMB review.

SUMMARY: In accordance with the Paperwork Reduction Act of 1995, the Federal Maritime Commission hereby gives notice that it has submitted to the Office of Management and Budget a request for an extension of the existing collection requirements under 46 CFR Part 535—Ocean Common Carrier and Marine Terminal Operator Agreements Subject to the Shipping Act of 1984. The FMC has requested an extension of an existing collection as listed below.

DATES: Written comments on this final notice must be submitted on or before April 2, 2007.

ADDRESSES: Comments should be addressed to: Office of Information and Regulatory Affairs, Office of Management and Budget, Attention: Mark Menchek, Desk Officer for FMC, 725—17th Street, NW., Washington, DC 20503, OIRA_Submission@OMB.EOP.GOV or fax (202) 395-5806, and to Derek O. Scarbrough, Chief Information Officer, Office of Administration, Federal Maritime Commission, 800 North Capitol Street, NW., Washington, DC 20573 (Telephone: (202) 523-5800), cio@fmc.gov. Copies of the submission(s) may be obtained by contacting Jane Gregory on 202-523-5800 or e-mail: jgregory@fmc.gov.

SUPPLEMENTARY INFORMATION: A notice that FMC would be submitting this request was published in the Federal Register on December 22, 2006, allowing for a 60-day comment period. No comments were received.

The FMC hereby informs potential respondents that an agency may not conduct or sponsor, and that a person is not required to respond to, a collection of information unless it displays a currently valid OMB control number.

Information Collection Open for Comment

Title: 46 CFR Part 535—Ocean Common Carrier and Marine Terminal Operator Agreements Subject to the Shipping Act of 1984.

OMB Approval Number: 3072-0045 (Expires March 31, 2007).

Abstract: Section 4 of the Shipping Act of 1984, 46 U.S.C. 40301 (2006), identifies certain commercial agreements by or among ocean common carriers that fall within the jurisdiction of the Shipping Act. Section 5 of the Shipping Act, 46 U.S.C. 40302, requires that carriers file those agreements with the Federal Maritime Commission. Section 6 of the Shipping Act, 46 U.S.C. 40304, specifies the Commission actions that may be taken with respect to filed agreements, including requiring the submission of additional information. Section 15 of the Shipping Act, 46 U.S.C. 40104, authorizes the Commission to require that ocean common carriers, among other persons, file periodic reports. Requests for additional information and the filing of periodic reports are meant to assist the Commission in fulfilling its statutory mandate of overseeing the activities of the ocean transportation industry. These reports are necessary so that the Commission can monitor agreements parties' activities to determine how or if their activities will have an impact on competition.

Current Actions: There are no changes to this information collection, and it is being submitted for extension purposes only.

Type of Review: Extension.

Needs and Uses: The Commission staff uses the information filed by agreement parties to monitor their activities as required by the Shipping Act. Under section 6(g) of the Shipping Act, 46 U.S.C. 41307, the Commission must determine whether filed agreements will have substantially anticompetitive effects on prevailing trade conditions and, if so, whether the agreements will likely, by a reduction in competition, result in an unreasonable reduction in competition, result in an unreasonable reduction in transportation service or an unreasonable increase in transportation cost. If it is shown, based on information collected under this rule, that an agreement is likely to have the foregoing adverse effects, the Commission may bring suit in U.S. District Court to enjoin the operation of that agreement. The information collected is not disclosed to the public and is only for internal analysis in support of the Commission's decision-making process.

Frequency: This information is collected generally on a quarterly basis or as required under the rules.

Type of Respondents: The types of respondents are ocean common carriers and marine terminal operators subject to the Act.

Number of Annual Respondents: The Commission estimates a potential annual respondent universe of 574 entities.

Estimated Time per Response: The average time for filing agreements is estimated to be two person-hours per filing. The average time for preparing and filing information required by Form FMC-150, Information Form for Agreements Between or Among Ocean Common Carriers, is estimated to be 12 to 48 person-hours per response. The average time for completing Form FMC-151, Monitoring Report for Agreements Between or Among Ocean Common Carriers, is estimated to range between seven to 50 person-hours for agreement staff and three to 12 hours for each agreement carrier party, depending on the complexity of the required information. The total average time for reporting and recordkeeping for all responses is 8.15 person-hours.

Total Annual Burden: The Commission estimates the total person-hour burden at 13,620 person-hours.

Bryant L. VanBrakle,
Secretary.

4

[FR Doc. E7-3794 Filed 3-1-07; 8:45 am]

BILLING CODE 6730-01-P